FEDERAL COMMUNICATIONS COMMISSION

Notice of Public Information Collection(s) Being Submitted for Review to the Office of Management and Budget

April 27, 2007

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 1, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via internet at Jasmeet_K._Seehra@omb.eop.gov and to Judith-B.Herman@fcc.gov, Federal Communications Commission, Room 1-B441, 445 12th Street, SW., DC 20554 or an e-mail to PRA@fcc.gov. If you would like to obtain or view a copy of this information collection, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-1030.

Title: Service Rules for Advanced Wireless Services in 1.7 GHz and 2.1 GHz Bands.

Form No.: N/A.

Type of Review: Revision of a currently approved collection.

Respondents: Business or other for-profit and state, local or tribal government.

Number of Respondents: 904 respondents; 1,122 responses.

Estimated Time per Response: .25 hours-5 hours.

Frequency of Response: Semi-annual and on occasion reporting requirement, recordkeeping requirement, and third party requirement.

Obligation to Respond: Required to obtain or retain benefits.

Total Annual Burden: 29,147 hours.

Total Annual Cost: $2,721,200.

Privacy Act Impact Assessment: N/A.

Nature and Extent of Confidentiality: There is no need for confidentiality except as follows: The clearinghouses have committed, pursuant to the FCC's directive, to implement safeguards to maintain the confidentiality of information where necessary to protect respondents' legitimate commercial interests. Additionally, the Ninth Report and Order protects the specific location of incumbent BRS licensees' end-user/subscriber equipment, customer names, addresses and contact for purpose of relocation, which could raise competitive concerns. The Commission's rules permit parties filing information with the Commission to request confidential treatment of that information under 47 CFR 0.459.

Needs and Uses: The Commission will submit this information collection to OMB as a revision during this comment period to obtain the full three-year clearance from them. The Commission has changed the number of respondents, total annual burden hours and annual costs.

The Commission adopted and released a Ninth Report and Order in FCC 06-45, ET Docket No. 00-258 and WT Docket No. 02-353 which adopted disclosures related to negotiation and relocation of incumbent Fixed Microwave Service (FS) radio links and incumbent Broadband Radio Service (BRS) systems, and for the registration of these relocation expenses with a clearinghouse, including documentation of reimbursable costs for FS and BRS relocations, documentation when a new Advanced Wireless Services (AWS) and Mobile Satellite Service Ancillary Terrestrial Components (MSS/ATC) operators trigger a cost-sharing obligation, prior coordination notices to identify when a specific site will trigger a cost-sharing obligation, and retention of records by the clearinghouses.

Privately administered clearinghouses, selected by the FCC, will keep track of and administer the cost sharing obligations over the next 10-15 years as AWS and MSS-ATC operators build new stations that require them to relocate incumbents.

In a Public Notice issued jointly with the National Telecommunications and Information Administration (NTIA), the FCC sets forth procedures for AWS licensees to coordinate with Federal Government operators in the 1.7 GHz band, and AWS licenses are granted with a special condition that requires coordination with Federal operators.

Federal Communications Commission.
William F. Caton,
Deputy Secretary.

[FR Doc. E7-8361 Filed 5-1-07; 8:45 am]

BILLING CODE 6712-01-P